DEPARTMENT OF HOMELAND SECURITY

Federal Emergency Management Agency

[Docket ID FEMA-2018-0002; Internal Agency Docket No. FEMA-B-1852]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

David I. Maurstad,
Deputy Associate Administrator for Insurance and Mitigation, Department of Homeland Security, Federal Emergency Management Agency.

State and county | Location and case No. | Chief executive officer of community | Community map repository | Online location of letter of map revision | Date of modification | Community No.
Alabama:
Morgan | City of Decatur, (18-04-5607P) | The Honorable Tab Bowling, Mayor, City of Decatur, P.O. Box 488, Decatur, AL 35602 | Building Department, 402 Lee Street Northeast, 4th Floor, Decatur, AL 35601 | https://msc.fema.gov/portal/advanceSearch | Dec. 7, 2018 | 010176
Morgan | City of Decatur, (18-04-5608P) | The Honorable Tab Bowling, Mayor, City of Decatur, P.O. Box 488, Decatur, AL 35602 | Building Department, 402 Lee Street Northeast, 4th Floor, Decatur, AL 35601 | https://msc.fema.gov/portal/advanceSearch | Dec. 7, 2018 | 010176
Morgan | Unincorporated areas of Morgan County, (18-04-5608P) | The Honorable Ray Long, Chairman, Morgan County Commission, P.O. Box 668, Decatur, AL 35602 | Morgan County Engineering Department, 580 Shull Road Northeast, Hartselle, AL 35640 | https://msc.fema.gov/portal/advanceSearch | Dec. 7, 2018 | 010175
Colorado:
Douglas | Unincorporated areas of Douglas County (17-08-1424P) | The Honorable Lora Thomas, Chair, Douglas County Board of Commissioners, 100 3rd Street, Castle Rock, CO 80104 | Douglas County Public Works Engineering Division, 100 3rd Street, Castle Rock, CO 80104 | https://msc.fema.gov/portal/advanceSearch | Dec. 14, 2018 | 080049
Garfield | City of Glenwood Springs, (18-08-0696P) | The Honorable Michael Gamba, Mayor, City of Glenwood Springs, 101 West 8th Street, Glenwood Springs, CO 81601 | Engineering Department, 101 West 8th Street, Glenwood Springs, CO 81601 | https://msc.fema.gov/portal/advanceSearch | Nov. 23, 2018 | 080071
Garfield | City of Rifle (18-08-0106P) | Mr. Davis Farrar, Interim City Manager, City of Rifle, 202 Railroad Avenue, Rifle, CO 81650 | City Hall, 202 Railroad Avenue, Rifle, CO 81650 | https://msc.fema.gov/portal/advanceSearch | Nov. 23, 2018 | 085078
Garfield | Unincorporated areas of Garfield County (18-08-0106P) | The Honorable John Martin, Chairman, Garfield County Board of Commissioners, 108 8th Street, Suite 101, Glenwood Springs, CO 81601 | Garfield County Courthouse, 109 8th Street, Glenwood Springs, CO 81601 | https://msc.fema.gov/portal/advanceSearch | Nov. 23, 2018 | 080205
Garfield | Unincorporated areas of Garfield County (18-08-0696P) | The Honorable John Martin, Chairman, Garfield County Board of Commissioners, 108 8th Street, Suite 101, Glenwood Springs, CO 81601 | Garfield County Courthouse, 109 8th Street, Glenwood Springs, CO 81601 | https://msc.fema.gov/portal/advanceSearch | Nov. 23, 2018 | 080205
Montrose | City of Montrose, (17-08-1374P) | Mr. William Bell, City Manager, City of Montrose, P.O. Box 790, Montrose, CO 81402 | Engineering Department, 1221 6450 Road, Montrose, CO 81401 | https://msc.fema.gov/portal/advanceSearch | Nov. 9, 2018 | 080125
Montrose | Unincorporated areas of Montrose County, (17-08-1374P) | The Honorable Keith Caddy, Chairman, Montrose County Board of Commissioners, 317 South 2nd Street, Montrose, CO 81401 | Montrose County Public Works Department, 949 North 2nd Street, Montrose, CO 81401 | https://msc.fema.gov/portal/advanceSearch | Nov. 9, 2018 | 080124
Connecticut: New Haven | Town of Cheshire, (17-01-2563P) | The Honorable Rob Oris, Jr., Chairman, Town of Cheshire Council, 84 South Main Street, Cheshire, CT 06410 | Town Hall, 84 South Main Street, Cheshire, CT 06410 | https://msc.fema.gov/portal/advanceSearch | Dec. 7, 2018 | 090074
Florida:
Collier | City of Naples, (18-04-4561P) | The Honorable Bill Barnett, Mayor, City of Naples, 735 8th Street South, Naples, FL 34102 | Building Department, 295 Riverside Circle, Naples, FL 34102 | https://msc.fema.gov/portal/advanceSearch | Nov. 9, 2018 | 125130
Lee | City of Sanibel, (18-04-5183P) | The Honorable Kevin Ruane, Mayor, City of Sanibel, 800 Dunlop Road, Sanibel, FL 33957 | Planning Department, 800 Dunlop Road, Sanibel, FL 33957 | https://msc.fema.gov/portal/advanceSearch | Dec. 17, 2018 | 120402
Leon | City of Tallahassee, (18-04-4528P) | The Honorable Andrew Gillum, Mayor, City of Tallahassee, 300 South Adams Street, Tallahassee, FL 32301 | Growth Management Department, 300 South Adams Street, Tallahassee, FL 32301 | https://msc.fema.gov/portal/advanceSearch | Nov. 27, 2018 | 120144
Monroe | Unincorporated areas of Monroe County, (18-04-4626P) | The Honorable David Rice, Mayor, Monroe County Board of Commissioners, 9400 Overseas Highway, Suite 210, Marathon, FL 33050 | Monroe County Building Department, 2798 Overseas Highway, Suite 300, Marathon, FL 33050 | https://msc.fema.gov/portal/advanceSearch | Dec. 12, 2018 | 125129
Monroe | Unincorporated areas of Monroe County, (18-04-4628P) | The Honorable David Rice, Mayor, Monroe County Board of Commissioners, 9400 Overseas Highway, Suite 210, Marathon, FL 33050 | Monroe County Building Department, 2798 Overseas Highway, Suite 300, Marathon, FL 33050 | https://msc.fema.gov/portal/advanceSearch | Dec. 14, 2018 | 125129
Polk | Unincorporated areas of Polk County, (18-04-0571P) | The Honorable R. Todd Dantzler, Chairman, Polk County Board of Commissioners, P.O. Box 9005, Drawer BC01, Bartow, FL 33831 | Polk County Planning and Development Department, P.O. Box 9005, Drawer GM01, Bartow, FL 33831 | https://msc.fema.gov/portal/advanceSearch | Nov. 29, 2018 | 120261
Maine: Penobscot | Town of Howland, (17-01-1189P) | The Honorable Joshua McNally, Chairman, Town of Howland Planning Board, P.O. Box 386, Howland, ME 04448 | Town Hall, 8 Main Street, Howland, ME 04448 | https://msc.fema.gov/portal/advanceSearch | Nov. 23, 2018 | 230391
Maryland: Worcester | Town of Ocean City, (18-03-1304P) | The Honorable Richard W. Meehan, Mayor, Town of Ocean City, 301 Baltimore Avenue, Ocean City, MD 21842 | Department of Planning and Community Development, 301 Baltimore Avenue, Ocean City, MD 21842 | https://msc.fema.gov/portal/advanceSearch | Nov. 30, 2018 | 245207
Massachusetts:
Barnstable | Town of Mashpee, (18-01-1102P) | The Honorable Thomas F. O'Hara, Chairman, Town of Mashpee Board of Selectmen, 16 Great Neck Road North, Mashpee, MA 02649 | Building Department, 16 Great Neck Road North, Mashpee, MA 02649 | https://msc.fema.gov/portal/advanceSearch | Dec. 10, 2018 | 250009
Bristol | Town of Freetown, (18-01-1582P) | The Honorable Robert P. Jose, Chairman, Town of Freetown Board of Selectmen, P.O. Box 438, Assonet, MA 02702 | Building Department, 3 North Main Street, Assonet, MA 02702 | https://msc.fema.gov/portal/advanceSearch | Dec. 4, 2018 | 250056
New Mexico: Taos | Unincorporated areas of Taos County, (18-06-2137P) | Mr. Leandro Cordova, Manager, Taos County, 105 Albright Street, Taos, NM 87571 | Taos County Planning Department, 105 Albright Street, Taos, NM 87571 | https://msc.fema.gov/portal/advanceSearch | Nov. 30, 2018 | 350078
North Dakota: Oliver | City of Center, (17-08-1350P) | The Honorable Harold Wilkens, Mayor, City of Center, P.O. Box 76, Center, ND 58530 | City Hall, 312 Lincoln Avenue, Center, ND 58530 | https://msc.fema.gov/portal/advanceSearch | Dec. 7, 2018 | 380078
Oklahoma: Canadian | City of Oklahoma City, (18-06-1144P) | The Honorable David Holt, Mayor, City of Oklahoma City, 200 North Walker Avenue, 3rd Floor, Oklahoma City, OK 73102 | Department of Public Works, 420 West Main Street, Suite 700, Oklahoma City, OK 73102 | https://msc.fema.gov/portal/advanceSearch | Dec. 6, 2018 | 405378
Pennsylvania: Montgomery | Township of Lower Merion, (18-03-0847P) | Mr. Ernie B. McNeely, Manager, Township of Lower Merion, 75 East Lancaster Avenue, Ardmore, PA 19003 | Township Hall, 75 East Lancaster Avenue, Ardmore, PA 19003 | https://msc.fema.gov/port | Dec. 3, 2018 | 420701
Rhode Island: Bristol | Town of Bristol, (18-01-0901P) | The Honorable Nathan T. Calouro, Chairman, Town of Bristol Council, 10 Court Street, Bristol, RI 02809 | Building Department, 9 Court Street, Bristol, RI 02809 | https://msc.fema.gov/portal/advanceSearch | Nov. 16, 2018 | 445393
South Carolina:
Berkeley | Unincorporated areas of Berkeley County, (18-04-3970P) | The Honorable William W. Peagler, III, Chairman, Berkeley County Council, 1003 Highway 52, Moncks Corner, SC 29461 | Berkeley County Planning and Zoning Department, 1003 Highway 52, Moncks Corner, SC 29461 | https://msc.fema.gov/portal/advanceSearch | Dec. 10, 2018 | 450029
York | Unincorporated areas of York County, (18-04-4067P) | The Honorable Britt Blackwell, Chairman, York County Council, P.O. Box 66, Rock Hill, SC 29745 | York County Planning and Development Department, 1070 Heckle Boulevard, Suite 107, Rock Hill, SC 29732 | https://msc.fema.gov/portal/advanceSearch | Nov. 15, 2018 | 450193
Tennessee: Knox | City of Knoxville, (18-04-2049P) | The Honorable Madeline Rogero, Mayor, City of Knoxville, 400 Main Street, Room 691, Knoxville, TN 37902 | Stormwater Engineering Department, 400 West Main Street, Suite 480, Knoxville, TN 37901 | https://msc.fema.gov/portal/advanceSearch | Nov. 16, 2018 | 475434
Texas:
Bexar | City of San Antonio, (18-06-0790P) | The Honorable Ron Nirenberg, Mayor, City of San Antonio, P.O. Box 839966, San Antonio, TX 78283 | Transportation and Capital Improvements Department, Storm Water Division, 1901 South Alamo Street, 2nd Floor, San Antonio, TX 78204 | https://msc.fema.gov/portal/advanceSearch | Dec. 3, 2018 | 480045
Bexar | City of San Antonio, (18-06-1177P) | The Honorable Ron Nirenberg, Mayor, City of San Antonio, P.O. Box 839966, San Antonio, TX 78283 | Transportation and Capital Improvements Department, Storm Water Division, 1901 South Alamo Street, 2nd Floor, San Antonio, TX 78204 | https://msc.fema.gov/portal/advanceSearch | Nov. 19, 2018 | 480045
Bexar | City of Schertz (18-06-1177P) | The Honorable Michael Carpenter, Mayor, City of Schertz, 1400 Schertz Parkway, Schertz, TX 78154 | Floodplain Management Department, 10 Commercial Place, Schertz, TX 78154 | https://msc.fema.gov/portal/advanceSearch | Nov. 19, 2018 | 480269
Bexar | Unincorporated areas of Bexar County, (18-06-0652P) | The Honorable Nelson W. Wolff, Bexar County Judge, 101 West Nueva Street, 10th Floor, San Antonio, TX 78205 | Bexar County Public Works Department, 233 North Pecos-La Trinidad Street, Suite 420, San Antonio, TX 78207 | https://msc.fema.gov/portal/advanceSearch | Nov. 19, 2018 | 480035
Bexar | Unincorporated areas of Bexar County, (18-06-1810P) | The Honorable Nelson W. Wolff, Bexar County Judge, 101 West Nueva Street, 10th Floor, San Antonio, TX 78205 | Bexar County Public Works Department, 233 North Pecos-La Trinidad Street, Suite 420, San Antonio, TX 78207 | https://msc.fema.gov/portal/advanceSearch | Dec. 17, 2018 | 480035
Bexar | Unincorporated areas of Bexar County, (18-06-2765X) | The Honorable Nelson W. Wolff, Bexar County Judge, 101 West Nueva Street, 10th Floor, San Antonio, TX 78205 | Bexar County Public Works Department, 233 North Pecos-La Trinidad Street, Suite 420, San Antonio, TX 78207 | https://msc.fema.gov/portal/advanceSearch | Dec. 10, 2018 | 480035
Denton | City of Sanger, (18-06-0546P) | The Honorable Thomas Muir, Mayor, City of Sanger, P.O. Box 1729, Sanger, TX 76266 | City Hall, 201 Bolivar Street, Sanger, TX 76266 | https://msc.fema.gov/portal/advanceSearch | Nov. 9, 2018 | 480786
Tarrant | City of Fort Worth, (18-06-1306P) | The Honorable Betsy Price, Mayor, City of Fort Worth, 200 Texas Street, Fort Worth, TX 76102 | Transportation and Public Works Engineering Department, 200 Texas Street, Fort Worth, TX 76102 | https://msc.fema.gov/portal/advanceSearch | Nov. 13, 2018 | 480596
Tarrant | Unincorporated areas of Tarrant County, (18-06-1306P) | The Honorable B. Glen Whitley, Tarrant County Judge, 100 East Weatherford Street, Fort Worth, TX 76196 | Tarrant County Engineering Department, 100 East Weatherford Street, Fort Worth, TX 76196 | https://msc.fema.gov/portal/advanceSearch | Nov. 13, 2018 | 480582
Travis | City of Austin (17-06-3386P) | The Honorable Steve Adler, Mayor, City of Austin, P.O. Box 1088, Austin, TX 78767 | Watershed Protection Department, 505 Barton Springs Road, Austin, TX 78767 | https://msc.fema.gov/portal/advanceSearch | Nov. 26, 2018 | 480624
Travis | Unincorporated areas of Travis County, (17-06-3386P) | The Honorable Sarah Eckhardt, Travis County Judge, P.O. Box 1748, Austin, TX 78767 | Travis County Transportation and Natural Resources Division, 700 Lavaca Street, Suite 540, Austin, TX 78701 | https://msc.fema.gov/portal/advanceSearch | Nov. 26, 2018 | 481026
Virginia:
Fairfax | Unincorporated areas of Fairfax County, (18-03-1757X) | Mr. Bryan Hill, Fairfax County Executive, 12000 Government Center Parkway, Fairfax, VA 22035 | Fairfax County Stormwater Planning Division, 12000 Government Center Parkway, Suite 449, Fairfax, VA 22035 | https://msc.fema.gov/portal/advanceSearch | Dec. 10, 2018 | 515525
Loudoun | Town of Leesburg, (18-03-0622P) | The Honorable Kelly Burk, Mayor, Town of Leesburg, 25 West Market Street, Leesburg, VA 20176 | Town Hall, 25 West Market Street, Leesburg, VA 20176 | https://msc.fema.gov/portal/advanceSearch | Dec. 3, 2018 | 510091

[FR Doc. 2018-21014 Filed 9-26-18; 8:45 am]

BILLING CODE 9110-12-P